DEPARTMENT OF TRANSPORTATION

Surface Transportation Board

[STB Finance Docket No. 34535] ¹

Kansas & Oklahoma Railroad, Inc.—Trackage Rights Exemption—Atlantic & Pacific Railroad and Transportation Company

¹ Through inadvertence, the docket number originally assigned to this proceeding was STB Finance Docket No. 34520.

Atlantic & Pacific Railroad and Transportation Company (APR) has agreed to grant local and overhead trackage rights to Kansas & Oklahoma Railroad, Inc. (KO), over 4 miles of rail line extending from the point of interchange with KO's main line at approximately milepost 87.0 (at or near Chase, KS) to the point of interchange with KO's main line at approximately milepost 91.0 (at or near Silica, KS).²

² APR states that it has filed a notice f exemption to lease the line from KO and operate it. See Atlantic & Pacific Railroad and Transportation Company-Lease and Operation Exemption-Kansas & Oklahoma Railroad, STB Finance Docket No. 34451 (STB served July 20, 2004).

The transaction is scheduled to be consummated on or after August 13, 2004, the effective date of the exemption (7 days after the notice was filed).

The purpose of the trackage rights is to allow KO to continue to provide rail service over the subject line.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34535, must be filed with the Surface Transportation Board, 1925 K Street, NW., Washington, DC 20423-0001. In addition, a copy of each pleading must be served on Craig Richey, 315 W. 3rd Street, Pittsburg, KS 66762.

Board decisions and notices are available on our Web site at http://www.stb.dot.gov.

Decided: August 20, 2004.
By the Board, David M. Konschnik, Director, Office of Proceedings.
Vernon A. Williams,
Secretary.

[FR Doc. 04-19529 Filed 8-25-04; 8:45 am]

BILLING CODE 4915-01-P